INTERNATIONAL TRADE COMMISSION

[Investigation No. 731-TA-464 (Second Review)]

Sparklers From China

Determination

On the basis of the record ¹ developed in the subject five-year review, the United States International Trade Commission (Commission) determines, pursuant to section 751(c) of the Tariff Act of 1930 (19 U.S.C. 1675(c)) (the Act), that revocation of the antidumping duty order on sparklers from China would be likely to lead to continuation or recurrence of material injury to an industry in the United States within a reasonably foreseeable time.

¹ The record is defined in sec. 207.2(f) of the Commission's Rules of Practice and Procedure (19 CFR 207.2(f)).

Background

The Commission instituted this review on June 1, 2005 (70 FR 31537) and determined on September 7, 2005 that it would conduct an expedited review (70 FR 55164, September 20, 2005).

The Commission transmitted its determination in this review to the Secretary of Commerce on November 15, 2005. The views of the Commission are contained in USITC Publication 3814 (November 2005), entitled Sparklers from China: Investigation No. 731-TA-464 (Second Review).

By order of the Commission.
Issued: November 16, 2005.
Marilyn R. Abbott,
Secretary to the Commission.

[FR Doc. 05-23014 Filed 11-21-05; 8:45 am]

BILLING CODE 7020-02-P